DEPARTMENT OF ENERGY

Federal Energy Regulatory Commission

Combined Notice of Filings #1

Take notice that the Commission received the following electric corporate filings:

Docket Numbers: EC16-77-000.

Applicants: BlackRock, Inc.

Description: Request for Reauthorization, Extension and Modification of Blanket Authorizations Under Section 203 of the Federal Power Act and Request for Expedited Consideration of BlackRock, Inc.

Filed Date: 2/23/16.

Accession Number: 20160223-5115.

Comments Due: 5 p.m. ET 3/15/16.

Take notice that the Commission received the following electric rate filings:

Docket Numbers: ER16-990-000.

Applicants: Avista Corporation.

Description: § 205(d) Rate Filing: Avista Corp NITSA Low Voltage Facilities Chgs to be effective 4/1/2016.

Filed Date: 2/23/16.

Accession Number: 20160223-5074.

Comments Due: 5 p.m. ET 3/15/16.

Docket Numbers: ER16-991-000.

Applicants: Desert Stateline LLC.

Description: Tariff Cancellation: Administrative Cancellation of Tariff Record to be effective 2/23/2016.

Filed Date: 2/23/16.

Accession Number: 20160223-5144.

Comments Due: 5 p.m. ET 3/15/16.

Docket Numbers: ER16-992-000.

Applicants: Desert Stateline LLC.

Description: § 205(d) Rate Filing: Administrative Resubmission of Market Based Rate Tariff to be effective 11/1/2015.

Filed Date: 2/23/16.

Accession Number: 20160223-5150.

Comments Due: 5 p.m. ET 3/15/16.

Take notice that the Commission received the following PURPA 210(m)(3) filings:

Docket Numbers: QM16-1-000.

Applicants: Nebraska Public Power District.

Description: Supplement to February 12, 2016 Application of Nebraska Public Power District to Terminate Mandatory Purchase Obligation Under the Public Utility Regulatory Policies Act.

Filed Date: 2/22/16.

Accession Number: 20160222-5262.

Comments Due: 5 p.m. ET 3/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2016.
Nathaniel J. Davis, Sr.,
Deputy Secretary.

[FR Doc. 2016-04949 Filed 3-4-16; 8:45 am]

BILLING CODE 6717-01-P